DEPARTMENT OF THE INTERIOR

Bureau of Land Management

[WY-090-1220-MA]

Notice of Seasonal Closure of Public Lands to Motorized Vehicle Use

AGENCY: Bureau of Land Management, Interior.

ACTION: Notice of seasonal closure of certain public lands located in Lincoln County, Wyoming, to all types of motor vehicle use.

SUMMARY: Pursuant to 43 Code of Federal Regulations subpart 8364, the Bureau of Land Management (BLM) may issue an order to close the use of BLM administered lands to the public to protect those lands and resources. The Kemmerer Resource Management Plan (RMP) Record of Decision (ROD), April 29, 1986, states that big game winter ranges may be closed to minimize stress to wintering animals.

After consulting with the Wyoming Game and Fish Department the BLM Kemmerer Field Manager has decided to close certain BLM-administered lands and travel ways including existing roads and two-track trails, to all types of motorized vehicle travel (i.e., snowmobiles, all-terrain vehicles, any vehicle including trucks, sport utility vehicles and cars, motorcycles etc.). Winter range as identified in the Kemmerer RMP and as described below in the SUPPLEMENTARY INFORMATION section will be closed from January 1, 2004, through April 30, 2004.

This seasonal closure affects public lands located within the Raymond Mountain Wilderness Study Area (WSA), Slate Creek, Rock Creek, and Bridger Creek winter ranges. This action is necessary for the protection of crucial winter range habitat for elk, moose, antelope, and mule deer. Except for travel on highways or county roads, motorized vehicle travel within these areas will be allowed only by written authorization from the Kemmerer Field Manager. When performing official duties personnel of the BLM, Wyoming Game and Fish Department, U.S. Department of Agriculture-APHIS & Forest Service, U.S. Fish & Wildlife Service, and Lincoln and Uinta County Sheriff Offices are exempt from this closure.

SUPPLEMENTARY INFORMATION: The BLM Kemmerer Field Office is responsible for management of crucial winter range habitat located on public lands within Lincoln County. The Kemmerer RMP identifies areas of crucial winter range and the ROD states that seasonal closures for motorized vehicles may be used to protect big game winter range. Closures will vary depending on conditions and are to be implemented in coordination with the Wyoming Game and Fish Department (Kemmerer RMP, pages 25 and 27). The Raymond Mountain WSA, Slate Creek, Rock Creek, and Bridger Creek areas are crucial wintering ranges for elk, moose, antelope, and mule deer. Because of the effects of 4 years of exceptional drought and the health of wintering deer, moose and elk, the BLM has decided to implement a seasonal closure to protect the winter range from further degradation. Low forage production associated with the drought has caused animals to go into winter in very poor condition. Additionally, forage production on winter ranges has also been reduced. These impacts to wintering wildlife are currently compounded by significant human activity, such as day and night wildlife observation, still and video photography, snowmobiling, and antler gathering. Because of the increased stress that the presence of motorized vehicles inflict on wintering big game during difficult winter periods, the number of animals that will die on the winter range can increase. This would also decrease production of young during the following summer. Therefore, by closing crucial winter range to motorized vehicles impacts to wintering big game would be reduced.

By this order the following BLM-administered lands are included in this closure:

• The Raymond Mountain WSA is located approximately 15 miles north of Cokeville and contains 32,956 acres.

• The Slate Creek area includes all BLM-administered lands south of Fontenelle Creek, west and north of Route 189, and east of the crest of Slate Creek Ridge, and contains 111,100 acres.

• The Rock Creek area includes all BLM-administered lands south of County Road 204 (Pine Creek Road), west of the crest of Dempsey Ridge, west of Fossil Butte National Monument, north and east of Highway 30, and contains 105,750 acres.

• The Bridger Creek area includes all BLM-administered lands south of Highway 30, west of Fossil Ridge, west of Bear River Divide, north of the Uinta-Lincoln County line, east of the Utah-Wyoming border, and southeast of Highway 89, and contains 98,400 acres.

Maps of these seasonal closure areas will be posted with this notice at key locations that provide access into the closure areas, as well as at the Kemmerer Field Office, 312 Highway 189 North, Kemmerer, Wyoming 83101-9710.

In addition to the exemption of authorized personnel performing official duty, under this closure the following may continue:

• Maintenance and pumping of existing oil and gas facilities by oil and gas leaseholders and their associated authorized operators as approved,

• Conduct of livestock operations by holders of grazing permits as approved, and

• Use of these areas by non-motorized means such as by foot or horseback.

After April 30, 2004, motorized vehicle use will be limited to existing roads and two-track trails.

Authority for closure orders is provided in regulation 43 CFR, subparts 8341.2 and 8364.1. Violations of this closure are punishable by a fine not to exceed $1000, and/or imprisonment not to exceed 12 months.

DATES: This seasonal closure will be effective from January 1, 2004, through April 30, 2004.

FOR FURTHER INFORMATION CONTACT: Wally Mierzejewski, Outdoor Recreation Planner or Jim Wright, Wildlife Biologist, Bureau of Land Management, 312 Highway 189 North, Kemmerer, Wyoming 83101, or contact by telephone at 307-828-4500.

Dated: December 4, 2003.
Alan L. Kesterke,
Associate State Director.

[FR Doc. 04-2055 Filed 1-30-04; 8:45 am]

BILLING CODE 4310-22-P